DEPARTMENT OF COMMERCE

National Oceanic and Atmospheric Administration

Agency Information Collection Activities; Submission to the Office of Management and Budget (OMB) for Review and Approval; Comment Request; Licensing of Private Remote-Sensing Space Systems

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 15, 2025 during a 60-day comment period. This notice allows for an additional 30 days for public comments.

Agency: National Oceanic and Atmospheric Administration, Commerce.

Title: Licensing of Private Remote-Sensing Space Systems.

OMB Control Number: 0648-0174.

Form Number(s): None.

Type of Request: Regular (extension and revision of a current information collection).

Number of Respondents: 100.

Average Hours per Response: Application: 25 hours; License Modification Request: 1 hour; Notification of Launch or Deployment of Spacecraft, Notification of Disposal of On-Orbit Component, Notification of Detection of Anomaly, Notification of Financial Insolvency or Dissolution: 30 minutes each; Annual Compliance Certification: 3 hours; Initial Contact Form: 12 minutes; and Data Availability Notification: 10 minutes.

Total Annual Burden Hours: 1,194.

Needs and Uses: This is a request for revision and extension to an approved information collection.

The Department of Commerce (DOC), through the National Oceanic and Atmospheric Administration (NOAA) Office of Space Commerce (OSC) Commercial Remote Sensing Regulatory Affairs (CRSRA), has the authority to regulate private space-based remote sensing under the Land Remote Sensing Policy Act of 1992, 51 U.S.C. 60101 et seq. (the Act) and regulations at 15 CFR part 960. The regulations facilitate the development of the U.S. private remote sensing industry and thus promote the collection and widespread availability of remote sensing data while preserving essential U.S. national security interests and observing international obligations.

The proposed revisions in this notice are primarily tied to the development of a new, online platform to manage license actions called the Commerce Licensing and Compliance System for Space (CLCSS). CLCSS is intended to streamline the process for communications with CRSRA regarding applications, notices, modification requests, and annual compliance certifications. CRSRA is committed to improving the user experience and providing a simplified license application and management process for all licensees. The forms discussed below and their integration with CLCSS will streamline, clarify, and expedite paperwork submissions required to support regulation of the private space-based remote sensing industry.

Applications are made in response to the requirements in the Act, as amended. At present, CRSRA sends the applicant an Application Guide, which repeats the application questions and criteria listed in Appendix A to 15 CFR part 960 with an additional explanatory text. In the future, the CLCSS system will incorporate these questions and response criteria in a fillable, online form format. The application information received is used to determine if the applicant meets the legal criteria for issuance of a license to operate a private remote sensing space system, i.e., the proposed system will be operated in accordance with the Act, U.S. national security concerns and international obligations. Application information includes information about the applicant (such as corporate information), the launch dates of any components going to space, and technical specifications of all components of the remote sensing system. CRSRA has observed that relying on both the Appendix and the Application Guide creates confusion and has led to the submission of incomplete applications. CRSRA anticipates the fillable format, which combines both the Application Guide and criteria in Appendix A, will help any new applicant accurately provide the necessary information.

If a licensee wishes to modify its license, either to reflect changes in its business practices or technical changes to its system, or to request different license conditions, it may submit such a request to CRSRA and explain why the change is sought. CRSRA needs this information to be able to keep licenses accurate and to respond to the regulated community's needs. CRSRA is incorporating a new form called the License Modification Form with a standard set of questions licensees can provide for the modification request to be processed. Licensees will identify the relevant license provisions, the requested changes to those provisions, and the date upon which the requested change will take effect. CRSRA anticipates this will expedite how quickly the requests are processed and remove a moderate amount of paperwork by clarifying what to include with a modification request.

Licensees are required to notify CRSRA when a spacecraft launches or deploys; upon disposal of an on-orbit component of the licensed system; upon detection of an anomaly; and upon the licensee's financial insolvency or dissolution. The existing information collection already allows for the collection of this information through the Licensee Notification Form (LNF). This information is critical to fulfilling one of the United States' key international obligations, which is to authorize and continually supervise U.S. nationals' activities in space. CRSRA, through its implementing regulations, requires notice when spacecraft are deployed and disposed of so that CRSRA can supervise the space activities of U.S. nationals. Similarly, anomalies may indicate loss of control of a spacecraft, so CRSRA must monitor any anomalies to meaningfully supervise the activities of U.S. nationals in space. The approved LNF was not utilized by licensees. To provide more useful forms and effectively integrate to CLCSS, the LNF will be broken into the three types of notifications that licensees are required to provide. Financial insolvency or dissolution notification are still required under the regulation, but CRSRA has not received such notifications and therefore will not utilize a form for these notifications. CRSRA will accept these notifications by email or the generic contact feature on CLCSS. This will ensure CRSRA only required information is submitted, thereby reducing unnecessary paperwork and/or follow-up correspondence.

Pursuant to the regulations, CRSRA requires licensees to submit an annual compliance certification. In the certification, licensees verify that all facts in the license remain true. Facts that must be verified in this certification include the technical specifications of the system and other foundational facts that CRSRA relies upon in reviewing license applications. This information is critical to ensuring that only those entities who are legally fit to obtain a license do so. In order to integrate this process with CLCSS, CRSRA will turn the standard verification requirement into a form. There will be no substantive change in what information needs to be provided by licensees.

CRSRA will renew the optional Initial Contact Form (ICF) that includes contact information and general remote sensing system information with a few changes for clarity that include rephrasing a few questions and removing one or two. The ICF may be submitted electronically through the NOAA website prior to the submission of a full application and will also be integrated into CLCSS. The ICF information received is used to determine if the applicant is required to submit a full application for the issuance of a license to operate a private remote sensing space system, i.e., the proposed system falls under the authority defined in the Act and the regulations. If NOAA determines after reviewing the ICF that an application is not required, the potential applicant will save 40-50 hours of paperwork by not submitting the application.

Finally, CRSRA is renewing the optional Data Availability Notification (DAN) which includes contact information and general data availability information. The DAN may be submitted electronically through the NOAA website during the application process, while an applicant holds a license, or by any interested party. The DAN will be integrated with CLCSS as well. The DAN information received is used to help determine the availability of unenhanced data from a foreign or domestic remote sensing system, which may then be compared to unenhanced data produced by an applicant's system for the purpose of adjusting the conditions and/or restrictions in a license. The DAN form ensures that only required information is submitted, thereby reducing unnecessary paperwork and/or follow-up correspondence.

Affected Public: Business or other for-profit organizations.

Frequency: Once per year.

Respondent's Obligation: Voluntary.

Legal Authority: Land Remote Sensing Policy Act of 1992, 51 U.S.C. 60101 et seq.; and 15 CFR part 960—Licensing of Private Remote Sensing Space Systems..

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0174.

Sheleen Dumas,
Departmental PRA Compliance Officer, Office of the Under Secretary for Economic Affairs, Commerce Department.

[FR Doc. 2025-11071 Filed 6-13-25; 8:45 am]

BILLING CODE 3510-HR-P